DEPARTMENT OF COMMERCE

National Oceanic and Atmospheric Administration

[I.D. 040505C]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its Bottomfish Plan Team (BPT) meeting in Honolulu, HI. See SUPPLEMENTARY INFORMATION for specific times, dates, and agenda items.

DATES: The meeting of the PCPT will be held on April 27 to 28, 2005, from 8:30 a.m. to 5 p.m.

ADDRESSES: The BPT meeting will be held at the Western Pacific Fishery Management Council Office, 1164 Bishop St., Suite 1400, Honolulu, HI 96813.

FOR FURTHER INFORMATION CONTACT: Kitty M. Simonds, Executive Director; telephone: (808)522-8220.

SUPPLEMENTARY INFORMATION: The BPT will meet on April 27-28, 2005 to discuss the following agenda items:

Wednesday, 27 April, 8:30 a.m.

1. Introduction and assign rapporteurs

2. 2004 Annual Report

a. Review 2004 Annual Report modules and recommendations

d. 2004 Annual Report region-wide recommendations

3. Overfishing/Overfished control rules

a. Status of the Stock Report

b. Review recommendations from Stock Assessment Workshop and report on status

c. Overfishing control rule as applied to Guam and Hawaii fisheries

d. Discussion and recommendations

Thursday, 28 April, 8:30 a.m.

4. Archepelagic Ecosystem-based management plan

a. NMI Pilot Project

b. Report on ecosystem workshop

c. Discussion and recommendations

5. Hawaii Bottomfish management

a. National Ocean Service NWHI Sanctuary Designation Process

b. Council Draft Regulations

c. Discussion and recommendations

6. Plan Team Recommendations

7. Other Business

The order in which agenda items are addressed may change. Public comment periods will be provided throughout the agenda. The Plan Team will meet as late as necessary to complete scheduled business.

Although non-emergency issues not contained in this agenda may come before the Plan Team for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

April 5, 2005.
Emily Menashes,
Acting Director, Office of Sustainable Fisheries, National Marine Fisheries Service.

[FR Doc. E5-1639 Filed 4-7-05; 8:45 am]

BILLING CODE 3510-22-S